DEPARTMENT OF COMMERCE

International Trade Administration

[A-351-856]

Certain Aluminum Foil From Brazil: Final Results of Antidumping Duty Administrative Review; 2022-2023

AGENCY: Enforcement and Compliance, International Trade Administration, Department of Commerce.

SUMMARY: The U.S. Department of Commerce (Commerce) determines that Companhia Brasileira de Alumínio and CBA Itapissuma Ltda. (collectively, CBA) made sales of certain aluminum foil (aluminum foil) from Brazil at prices below normal value (NV) during the period of review (POR) November 1, 2022, through October 31, 2023.

DATES: Applicable September 12, 2025.

FOR FURTHER INFORMATION CONTACT: George McMahon, AD/CVD Operations, Office VI, Enforcement and Compliance, International Trade Administration, U.S. Department of Commerce, 1401 Constitution Avenue NW, Washington, DC 20230; telephone: (202) 482-1167.

SUPPLEMENTARY INFORMATION:

Background

On December 13, 2024, Commerce published in the Federal Register the Preliminary Results of this review and invited interested parties to comment.¹ Commerce conducted this administrative review in accordance with section 751(a)(1)(B) of the Tariff Act of 1930, as amended (the Act).

¹ See Certain Aluminum Foil from Brazil: Preliminary Results of Antidumping Duty Administrative Review; 2022-2023, 89 FR 100965 (December 13, 2024) (Preliminary Results), and accompanying Preliminary Decision Memorandum (PDM).

A summary of the events that occurred since the Preliminary Results may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Issues and Decision Memorandum for the Final Results of the Administrative Review of the Antidumping Duty Order on Certain Aluminum Foil from Brazil; 2022-2023,” dated concurrently with, and hereby adopted by, this notice (Issues and Decision Memorandum).

Scope of the Order ³

³ See Certain Aluminum Foil from the Republic of Armenia, Brazil, the Sultanate of Oman, the Russian Federation, and the Republic of Turkey: Antidumping Duty Orders, 86 FR 62790 (November 12, 2021) (Order).

The merchandise covered by scope of the Order is aluminum foil from Brazil. For a complete description of the scope of the Order, see the Issues and Decision Memorandum.⁴

⁴ See Issues and Decision Memorandum at 3.

Analysis of Comments Received

We addressed the issues raised by parties for these final results of review in the Issues and Decision Memorandum. A list of the issues that parties raised, and to which we responded in the Issues and Decision Memorandum, is provided in the appendix to this notice.

Changes Since the Preliminary Results

Based on our analysis of the comments received from interested parties, we made certain changes to the Preliminary Results. For a discussion of these changes, see the Issues and Decision Memorandum.

Final Results of Administrative Review

We determine that the following weighted-average dumping margin exists for the period November 1, 2022, through October 31, 2023:

Exporter or producer | Estimated weighted- average dumping margin (percent)
Companhia Brasileira de Alumínio/CBA Itapissuma Ltda.⁵ | 18.74

Disclosure

⁵ Commerce preliminarily determined that Companhia Brasileria de Alumínio and CBA Itapissuma Ltda. are affiliated, within the meaning of sections 771(33)(E) and (G) of the Act, and should be treated as a single entity, in accordance with 19 CFR 351.401(f). See Preliminary Results, 89 FR at 100966, and PDM at 1. Commerce received no comments regarding this preliminary determination. Accordingly, Commerce continues to find that Companhia Brasileira de Alumínio and CBA Itapissuma Ltda. are affiliated and continues to treat these companies as a single entity.

Commerce intends to disclose the calculations and analysis performed in connection with the final results of this administrative review to interested parties within five days of any public announcement or, if there is no public announcement, within five days of the publication date of this notice in the Federal Register, in accordance with 19 CFR 351.224(b).

Assessment Rates

Pursuant to section 751(a)(2)(C) of the Act and 19 CFR 351.212(b)(1), Commerce shall determine, and U.S. Customs and Border Protection (CBP) shall assess, antidumping duties on all appropriate entries of subject merchandise in accordance with the final results of this review. For CBA, we calculated importer-specific assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties. For entries of subject merchandise during the POR produced by CBA for which it did not know its merchandise was destined for the United States, we will instruct CBP to liquidate unreviewed entries at the all-others rate if there is no rate for the intermediate company(ies) involved in the transaction.⁶

⁶ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication of this notice in the Federal Register, as provided by section 751(a)(2) of the Act: (1) the cash deposit rate for the companies subject to this review will be equal to the company-specific weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation, but the producer has been covered in a prior completed segment of this proceeding, then the cash deposit rate will be the rate established in the completed segment for the most recent period for the producer of the merchandise; (4) the cash deposit rate for all other producers or exporters will continue to be 13.93 percent, the all-others rate established in the less-than-fair-value investigation of this proceeding.⁷ These cash deposit requirements, when imposed, shall remain in effect until further notice.

⁷ See Order, 86 FR at 62791.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order (APO)

This notice also serves as a reminder to parties subject to an APO of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

We are issuing and publishing this notice in accordance with sections 751(a)(1) and 777(i)(1) of the Act, and 19 CFR 351.221(b)(5).

Dated: September 8, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether to Apply the Major Inputs Rule to Certain CBA Itapissuma Costs

Comment 2: Whether to Use Non-Smoothed Costs for All Cost Elements

Comment 3: Whether to Apply the Transactions Disregarded Adjustment to CBA Aluminio's Costs Only

Comment 4: Whether to Treat Duty Drawback Symmetrically

Comment 5: Whether to Assign Costs to Sales of Control Numbers (CONNUMs) with No Production During the POR

VI. Recommendation

[FR Doc. 2025-17679 Filed 9-11-25; 8:45 am]

BILLING CODE 3510-DS-P